DEPARTMENT OF HEALTH AND HUMAN SERVICES

Administration for Children and Families

Proposed Information Collection Activity; Comment Request

Proposed Projects

Title: HHS/ACF/ASPE/DOL Enhanced Services for the Hard-to-Employ Demonstration and Evaluation Project Follow-up Surveys.

OMB No.: New collection.

Description: The Enhanced Services for the Hard-to-Employ Demonstration and Evaluation Project (HtE) is the most ambitious, comprehensive effort to learn what works in this area to date and is explicitly designed to build on previous and ongoing research by rigorously testing a wide variety of approaches to promote employment and improve family functioning and child well-being. The HtE project will “conduct a multi-site evaluation that studies the implementation issues, program design, net impact and benefit-costs of selected programs” ¹ designed to help Temporary Assistance for Needy Families (TANF) recipients, former TANF recipients, or low-income parents who are hard-to-employ. The project is sponsored by the Office of Planning, Research and Evaluation (OPRE) of the Administration for children and Families (ACF), the Office of the Assistance Secretary for Planning and Evaluation (ASPE) in the U.S. Department of Health and Human Services (HHS), and the U.S. Department of Labor (DOL).

¹ From the Department of Health and Human Services RFP No.: 233-01-0012.

The evaluation involves an experimental, random assignment design in five sites (four are confirmed), testing a diverse set of strategies to promote employment for low-income parents who face serious obstacles to employment. The four include: (1) Intensive care management to facilitate the use of evidence-based treatment for major depression among parents receiving Medicaid in Rhode Island; (2) job readiness training, worksite placements, job coaching, job development and other training opportunities for recent parolees in New York City; (3) pre-employment services and transitional employment for long-term TANF participants in Philadelphia; and (4) home- and center-based care for low-income families who have young children or are expecting in Kansas and Missouri. The latter is a two-generation test, designed to help the children and their parents.

Over the next several years, the HtE project will generate a wealth of rigorous data on implementation, effects, and costs of these alternative approaches. The follow-up surveys will be used for the following purposes:

• To study the extent to which different HtE approaches impact employment, earnings, income, welfare dependence, and the presence or persistence of employment barriers.

• To study how different HtE strategies impact child well-being, when programs are directed toward parents, and when they are designed to target both generations.

• To collect data on a wider range of outcome measures than is available through Welfare, Medicaid, Food Stamps, Social Security, the Criminal Justice System or Unemployment Insurance records in order to understand the family circumstances and attributes and situations that contribute to the difficulties in finding employment; job retention and job quality; educational attainment; interactions with and knowledge of the HtE program; household composition; child care; transportation; health care; income; physical and mental health problems; substance abuse; domestic violence; and criminal history.

• To conduct non-experimental analyses to explain participation decisions and provide a descriptive picture of the circumstances of individuals who are hard-to-employ.

• To obtain participation information important to the evaluation's benefit-cost component; and to obtain contact information for possible future follow-up, information that will be important to achieving high response rates for additional surveys.

Materials for the HtE baseline survey were previously submitted to OMB on April 29, 2003, and a revised packet for the Rhode Island site was submitted on April 7, 2004. Both submissions have been approved by OMB.

The purpose of this submission is to introduce the five survey instruments that will be used to collect follow-up data in the four confirmed sites. These are as follows:

1. A 6-month follow-up survey in Rhode island (Mental Health Test).

2. A 15-month follow-up survey in Rhode island (Mental Health Test).

3. A 12-month follow-up survey in new York City (Recent Parolees).

4. A 12-month follow-up survey in Philadelphia (Transitional Employment for long-term TANF participants).

b. A 12-month follow-up in Kansas and Missouri (Two-Generation Test).

We believe that content for the fifth site's 12-month survey will be drawn from questions already included in these follow-up surveys.

Respondents: The respondents to these follow-up surveys will be low-income individuals from the five states represented by the four sites currently participating in the HtE Project: Kansas, Missouri, New York, Pennsylvania, and Rhode Island. Many will be current or former TANF participants, and many will be current or former recipients of Medicaid. These populations are at heightened risk for all of the barriers that cause people to be hard-to-employ.

Prior to these follow-up surveys, basic demographic information for all survey respondents will have been obtained wherever possible from the existing automated systems or brief baseline information forms. In the Rhode Island site, respondents will have completed a more detailed baseline survey, which is required to establish baseline measures of depression and related conditions.

The annual burden estimates are detailed below, and the substantive content of each survey will be detailed in the supporting statement attached to the forthcoming 30-day notice.

Annual Burden Estimates
Instrument | Number of LI>respondents | Number of responses per respondent | Average burden hours per response | Total burden hours
6-month, Rhode Island | 734 | 1 | 38 minutes or .63 hrs | 464.87
15-month, Rhode Island | 734 | 1 | 77 minutes or 1.28 hrs | 941.97
12-month, New York City | 500 | 1 | 32 minutes or .53 hrs | 266.67
12-month, Philadelphia | 750 | 1 | 25 minutes or .42 hrs | 312.5
12-month, Kansas/Missouri | 680 | 1 | 52 minutes or .87 hrs | 589.33

Estimated Total Annual Burden Hours: 2,575.34.

In compliance with the requirements of section 3506(c)(2)(A) of the Paperwork Reduction Act of 1995, the Administration for Children and Families is soliciting public comment on the specific aspects fo the information collection described above. Copies of hte proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: September 2, 2004.
Robert Sargis,
Reports Clearance Officer.

[FR Doc. 04-20371 Filed 9-8-04; 8:45 am]

BILLING CODE 4184-01-M